DEPARTMENT OF COMMERCE

National Oceanic and Atmospheric Administration

[I.D. 051704F]

Endangered Species; File No. 1231

AGENCY: National Marine Fisheries Service (NMFS), National Oceanic and Atmospheric Administration (NOAA), Commerce.

ACTION: Issuance of permit modification.

SUMMARY: Notice is hereby given that Llewellyn M. Ehrhart has been issued a modification to scientific research Permit No. 1231.

ADDRESSES: The modification and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Patrick Opay or Ruth Johnson, (301)713-2289.

SUPPLEMENTARY INFORMATION: On March 12, 2004, notice was published in the Federal Register (69 FR 11839) that a modification of Permit No. 1231, issued May 31, 2000 (65 FR 36666), had been requested by the above-named individual. The requested modification has been granted under the authority of the Endangered Species Act of 1973, as amended (ESA; 16 U.S.C. 1531 et seq.) and the regulations governing the taking, importing, and exporting of endangered and threatened species (50 CFR 222-226).

This modification will allow the permit holder to obtain additional information about green sea turtle movement patterns and their utilization of habitat. The permit holder will attach a transmitter and time-depth-temperature recorder to 14 green (Chelonia mydas) sea turtles using a tether and track them. Turtles will be also be sampled, measured, weighed, and tagged before being released. This research will take place in waters of the east coast of Florida for the remaining duration of the permit which expires on March 31, 2005.

Issuance of this modification, as required by the ESA was based on a finding that such permit (1) was applied for in good faith, (2) will not operate to the disadvantage of the endangered species which is the subject of this permit, and (3) is consistent with the purposes and policies set forth in section 2 of the ESA.

Dated: June 4, 2004.
Patrick Opay,
Acting Chief, Permits, Conservation and Education Division, Office of Protected Resources, National Marine Fisheries Service.

[FR Doc. 04-13202 Filed 6-10-04; 8:45 am]

BILLING CODE 3510-22-S